FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Ocean Cargo Logistics Group, LLC, 14381 SW., 163 Street, Miami, FL 33177. Officer:Juan C. Gonzalez, President, (Qualifying Individual).

Grandwin Logistics, Inc., 240 S. Garfield Avenue, #303, Alhambra, CA 91801. Officer:Ting Zhao, CEO, (Qualifying Individual).

Eternity Int'l Freight Forwarder, Inc.. 14168 Orange Avenue, Paramount, CA 90723. Officers:James, Huaging Chen, Secretary, (Qualifying Individual). Eugene Chiang, Secretary.

Nelcon Cargo Corp., 7270 NW 35th Terr., Ste. 102, Miami, FL 33122. Officer:Xenia Perea, President, (Qualifying Individual).

Barthco Transportation Services Inc., 5101 S. Broad Street, Philadelphia, PA 19112. Officers:John J. Hafferty, Vice President, (Qualifying Individual).

Iwin Group Corp..135 N. 5th Street, Apt. #G, Alhambra, CA 91801. Officers:Yaoyao Guo, CEO, (Qualifying Individual). Honggang Liu, CFO.

Cargo America, Inc., 332 S. Wayside Drive, Houston, TX 77011. Officer:Mohamed F. Elkhodiry, President. (Qualifying Individual).

Advance Marine Shipping, 2136 Gulf Central, Houston, TX 77023. Gibson A. Oluyitan, Sole Proprietor.

CoscoEx (CGL), Inc. dba Citic Global Logistics, 1035 Watson Center Road, Carson, CA 90745. Officer:David Fernandes, Treasurer, (Qualifying Individual).

Non-Vessel Operating Common Carrier and Ocean Freight Forwarder Transportation Intermediary Applicants

Transport Logistics, Inc., 2500 West Southbranch Blvd., Oak Creek, WI 53154.Officers:Jeanne F. Ciarla, Dir. of Int'l Operations, (Qualifying Individual).Terry Kultgen, President.

EDI Transport LLC, 1150 Eastport Center Dr., Ste. G, Valpariso, IN 46383. Officers:Imelda G. Post, Secretary, (Qualifying Individual). Eric Charles, President.

Access International Services Corp. dba Access Container Line, 8008 NW., 68 Street, Miami, FL 33166. Officers:Gustavo A. Lopez, Vice President, (Qualifying Individual). Jairo A. Rivas, President.

Promax Automotive, Inc., 5268 E. Provident Drive, Cincinnati, OH 46246. Officer:Richard Doran, Sen Vice President, (Qualifying Individual).

Eagle Shipping Line, Inc., 1214 Hyde Park Avenue, 2nd Floor, Hyde Park, MA 02136. Officers:Remy Joseph, Vice President, (Qualifying Individual). Stahler Joseph, President.

STS Logistics USA, Inc., 1750 112th Avenue NE., Bellevue, WA 98004. Officers:Nickolay A. Nickolaychuk, President, (Qualifying Individual). Rustam Yuldashlev, Director.

Tridant Logistics International Inc., 3 University Plaza, Hackensack, NJ 07601. Officer:Joong N. Cho, President, (Qualifying Individual).

Scan Global Logistics, Inc., 768 So. Central Avenue, Ste. 200, Atlanta, GA 30354. Officer:Karen M. Gulrich, Vice Pres. Compliance, (Qualifying Individual).

Mariam International Ltd. Co., dba Liberty Logistics, 939 Poydras Street, Sugarland, TX 77478. Officer:Teresa L. Roberson, Vice President, (Qualifying Individual).

CDS Global Logistics Inc., One Cross Island Plaza, Ste. #118, Rosedale, NY 11422. Officer:Danston Lam, President, (Qualifying Individual).

Ocean Freight Forwarder—Ocean Transportation Intermediary Applicants

Barthco International, Inc., 5101 S. Broad Street, Philadelphia, PA 19112. Officer:John J. Hafferty, Vice President, (Qualifying Individual).

Trans-Mia, LLC, 10300 NW 19th Street, Bldg. 105, Miami, FL 33172. Officers:Amaldo Puig, Managing Member, (Qualifying Individual).

ISS Marine Services, Inc. dba Inchcape Shipping Services, 118 North Royal Street, #400, Mobile, AL 36602, Officers:Elaine T. Dearmond, Vice President, (Qualifying Individual). Lars D. Westerberg, CEO.

Agrotek Florida Corp., 15740 SW 101 Street, Miami, FL 33196. Officers:Cesar A. Baez, General Manager, (Qualifying Individual). Maria A. Baezocando, Vice President.

Dated: October 3, 2008.
Tanga S. FitzGibbon,
Alternate Federal Register, Liaison Officer.

[FR Doc. E8-23869 Filed 10-7-08; 8:45 am]

BILLING CODE 6730-01-P